ENVIRONMENTAL PROTECTION AGENCY

40 CFR Part 52

[EPA-R04-OAR-2021-0342; FRL-9971-01-R4]

Air Plan Approval; Georgia; Vehicle Inspection and Maintenance Program

AGENCY: Environmental Protection Agency (EPA).

ACTION: Proposed rule.

SUMMARY: The Environmental Protection Agency (EPA) is proposing to approve State Implementation Plan (SIP) revisions submitted by the State of Georgia through the Georgia Department of Natural Resources (GA DNR), Environmental Protection Division (GA EPD) on April 30, 2021. The revisions remove obsolete references and provisions, update and clarify the State's inspection and maintenance (I/M) requirements, and update terminology, in part to reflect advances in test and vehicle technology. EPA has evaluated the SIP revisions and has preliminarily determined the changes will not increase emissions under the Georgia I/M program. EPA is proposing to approve these changes pursuant to the Clean Air Act (CAA).

DATES: Comments must be received on or before August 10, 2022.

ADDRESSES: Submit your comments, identified by Docket ID No. EPA-R04-OAR-2021-0342 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Kelly Sheckler, Air Regulatory Management Section, Air Planning and Implementation Branch, Air and Radiation Division, U.S. Environmental Protection Agency, Region 4, 61 Forsyth Street SW, Atlanta, Georgia 30303-8960. The telephone number is (404) 562-9222. Ms. Sheckler can also be reached via electronic mail at sheckler.kelly@epa.gov.

SUPPLEMENTARY INFORMATION:

I. What is the background of Georgia's SIP-approved I/M program?

The CAA requires areas that are designated as moderate, serious, severe, or extreme ozone nonattainment areas to establish a motor vehicle I/M program to ensure regular monitoring of gasoline fueled motor vehicle emissions. See CAA sections 182(b)(4), (c)(3). The required monitoring is performed by periodic emissions testing of vehicles. See CAA sections 182(a)(2)(B), (c)(3). This emissions testing ensures that vehicles are well maintained, operating as designed, and do not exceed established vehicle pollutant limits. A basic I/M program is required for moderate ozone nonattainment areas, and an enhanced I/M program is required for serious, severe, or extreme ozone nonattainment areas.

In 1991, EPA classified a 13-county area in and around the Atlanta, Georgia, metropolitan area as a serious ozone nonattainment area for the 1979 1-hour ozone national ambient air quality standards (NAAQS), triggering the requirement for the State to establish an enhanced I/M program for this area.¹ In 1996, Georgia submitted its enhanced I/M program to EPA for incorporation into the SIP. EPA granted interim approval of the State's program in 1997. See 62 FR 42916 (August 11, 1997). A few years later, EPA granted full approval.² See 65 FR 4133 (January 26, 2000). Despite this, the 13-county area failed to attain the 1-hour ozone NAAQS by November 15, 1999. EPA issued a final rulemaking action (68 FR 55469) on September 26, 2003, to reclassify the area to a severe ozone nonattainment area. Subsequently, this area attained the 1-hour ozone NAAQS, and thus EPA redesignated the nonattainment area to attainment for the 1-hour ozone NAAQS. See 70 FR 34660 (June 15, 2005). On April 30, 2004, EPA issued a final rulemaking action (69 FR 23951) to revoke the 1979 1-hour ozone NAAQS, effective June 15, 2005.

¹ On November 6, 1991, EPA designated and classified the following counties in and around the Atlanta, Georgia, metropolitan area as a serious ozone nonattainment area for the 1-hour ozone NAAQS: Cherokee, Clayton, Cobb, Coweta, DeKalb, Douglas, Fayette, Forsyth, Fulton, Gwinnett, Henry, Paulding, and Rockdale. See 56 FR 56694.

² Since granting full approval for the State's I/M program, EPA has approved several SIP revisions concerning the State's I/M program.

On July 18, 1997 (62 FR 38856), EPA established an 8-hour ozone NAAQS and subsequently designated areas. On April 30, 2004 (69 FR 23858), EPA designated a 20-county area in and around metropolitan Atlanta as a marginal ozone nonattainment area for the 1997 8-hour ozone NAAQS.³ EPA reclassified this area as a moderate ozone nonattainment area on March 6, 2008 (73 FR 12013), because the area failed to attain the 1997 8-hour ozone NAAQS by the required attainment date of June 15, 2007. Subsequently, the area attained the 1997 8-hour ozone standard, and on December 2, 2013 (78 FR 72040), EPA redesignated the counties to attainment for the 1997 8-hour ozone NAAQS.

³ The nonattainment area for the 1997 8-hour ozone standard consisted of the following counties: Barrow, Bartow, Carroll, Cherokee, Clayton, Cobb, Coweta, DeKalb, Douglas, Fayette, Forsyth, Fulton, Gwinnett, Hall, Henry, Newton, Paulding, Rockdale, Spalding, and Walton.

On March 12, 2008, EPA revised the 8-hour ozone NAAQS. See 73 FR 16436 (March 27, 2008). EPA designated a 15-county area in and around metropolitan Atlanta as a marginal ozone nonattainment area for the 2008 8-hour ozone NAAQS on April 30, 2012 (effective July 20, 2012).⁴ See 77 FR 30088 (May 21, 2012). EPA reclassified these counties as a moderate ozone nonattainment area on April 11, 2016 (effective June 3, 2016), because the area failed to attain the 2008 8-hour ozone NAAQS by the required attainment date of July 20, 2015. See 81 FR 26697 (May 4, 2016). Subsequently, the area attained the 2008 8-hour ozone standard and EPA redesignated the counties to attainment for the 2008 8-hour ozone NAAQS. See 82 FR 25523 (June 2, 2017).

⁴ The nonattainment area for the 2008 8-hour ozone standard consisted of the following counties: Bartow, Cherokee, Clayton, Cobb, Coweta, DeKalb, Douglas, Fayette, Forsyth, Fulton, Gwinnett, Henry, Newton, Paulding, and Rockdale.

On October 1, 2015, EPA again revised the 8-hour ozone NAAQS. See 80 FR 65291 (October 26, 2015). EPA designated a 7-county area in and around metropolitan Atlanta as a marginal ozone nonattainment area for the 2015 8-hour ozone NAAQS on April 30, 2018 (effective August 3, 2018).⁵ See 83 FR 25776 (June 4, 2018).

⁵ The nonattainment area for the 2015 8-hour ozone standard consists of the following counties: Bartow, Clayton, Cobb, DeKalb, Fulton, Gwinnett, and Henry.

II. Background on EPA's I/M Program

After the 1990 amendments, the CAA required EPA to set guidelines for states in designing and running I/M programs.⁶ The guidelines were required to distinguish between basic and enhanced I/M programs and clarify how states must meet minimum I/M design requirements set by the CAA. One of the minimum design requirements included Onboard Diagnostic (OBD) system checks as a part of periodic inspections. This design requirement applied to both basic and enhanced I/M programs.

⁶ See 182(a)(2)(B)(ii); David Sosnowski, Edward Gardetto, Performing Onboard Diagnostic System Checks as a Part of a Vehicle Inspection and Maintenance Program, EPA 420-R-01-015, June 2001. This document is available at https://nepis.epa.gov/Exe/ZyPdf.cgi?Dockey=P1002KRN.pdf.

In November of 1992, EPA published an I/M rule at 40 CFR part 51 subpart S. At the time of promulgation however, federal standards for OBD certification had not been published. As a stopgap, EPA reserved sections in the 1992 rule for the CAA's OBD-I/M requirement based on the understanding that these sections would be amended in the future. A federal requirement to incorporate OBD into new vehicles began with the 1994 model year. However, manufacturers could request waivers on vehicles for model years 1994-95, so full compliance for light-duty cars and trucks sold in the United States was not required until model year 1996.

EPA published amendments to the 1992 I/M rule that created OBD-I/M requirements for I/M performance standards and I/M SIPs on August 6, 1996. These amendments included the following requirements: data collection, summary reporting, and analysis requirements for the OBD-I/M testing element. Additionally, the amendments established OBD test equipment requirements, the OBD test result reporting format, and identified conditions to determine if a test resulted in an OBD-I/M pass, failure, or rejection. Finally, these amendments established OBD-I/M as an official performance warranty short test under section 207(b) of the Act by revising 40 CFR part 85, subpart W.

In August 2000, EPA published a study evaluating the use of OBD to detect vehicle malfunctions that caused increased emissions.⁷ In this study, EPA concluded that the OBD technology is a viable I/M test for 1996 and newer vehicles. The magnitude of emissions reductions available from basing repairs on OBD were found to be at least as large, if not greater than those resulting from available I/M tailpipe tests. In direct comparison to the IM240,⁸ the study found that OBD technology offered a better ability to identify vehicles with tailpipe emissions that exceed certified standards. With some exceptions, the study found that OBD identified the same vehicles as IM240, but additionally identified components which have degraded and may cause future emissions problems. By identifying and repairing these components early, OBD was found to provide a type of preventative maintenance that extended the long-term durability of expensive components (catalytic converter, fuel injectors, oxygen sensors, transmissions). Additionally, repairs based on OBD testing effectively returned vehicles to their proper operating conditions and for a majority, returned tailpipe emissions to below certification levels.

⁷ See Edward Gardetto, Ted Trimble, Evaluation of On-Board Diagnostics for Use in Detecting Malfunctioning and High Emitting Vehicles, EPA 420-R-00-13, August 2000. This document is available at https://nepis.epa.gov/Exe/ZyPDF.cgi/P1002KM8.PDF?Dockey=P1002KM8.PDF.

⁸ The IM240 test is a test that measures emissions while the vehicle is driven on a dynamometer. The vehicle is operated over different speeds to resemble typical city driving and includes tests of the vehicle's acceleration and deceleration. The IM240 test captures the entire exhaust stream emitted during the test and measures the total mass of emissions from the vehicle.

III. What is being proposed?

EPA is proposing to approve changes to the Georgia SIP that were provided to EPA through a cover letter dated April 30, 2021.⁹ Specifically, GA EPD submitted changes to Georgia's Rule 391-3-20—Enhanced Inspection and Maintenance (“Georgia I/M Regulation”), which were adopted by the GA DNR Board of Directors and became state-effective on April 13, 2021.

⁹ EPA officially received Georgia's I/M SIP revisions on May 4, 2021.

With regards to revisions to SIPs, CAA section 110(l) provides that EPA shall not approve a revision to a plan if the revision would interfere with any applicable requirement concerning attainment and reasonable further progress (as defined in CAA Section 171), or any other applicable requirement of the CAA. Section 193 of the CAA provides, in part, that:

No control requirement in effect, or required to be adopted by an order, settlement agreement, or plan in effect before November 16, 1990, in any area for any air pollutant may be modified after November 15, 1990, in any manner unless the modification insures equivalent or greater emission reductions of such air pollutant.

The proposed changes remove obsolete references and provisions, update and clarify the State's inspection and maintenance (I/M) requirements, and update terminology, in part to reflect advances in test and vehicle technology. EPA believes the proposed changes submitted by Georgia will not lead to any increases of any NAAQS pollutant and will not otherwise interfere with any CAA applicable requirement. Additional detail on the changes and EPA's analysis is contained in Section IV, below.

IV. State's Submittal and EPA's Analysis

Georgia's April 30, 2021, SIP submittal modifies the following sections of Georgia's SIP-approved I/M Regulation: Rule 391-3-20-.01—“Definitions”; Rule 391-3-20-.04—“Emission Inspection Procedures”; Rule 391-3-20-.05—“Emission Standards”; Rule 391-3-20-.07—“Inspection Equipment System Specifications”; Rule 391-3-20-.09—“Inspection Station Requirements”; and Rule 391-3-20-.11—“Inspector Qualifications and Certification.” EPA's analysis of these changes is provided in sections IV.A through IV.F.

Georgia's current SIP-approved I/M regulation covers all gasoline-powered light duty trucks and vehicles 24 model years old and newer. See Georgia Rule 391-3-20-.03(1); 62 FR 42916 (August 11, 1997). This means the I/M program currently applies to all gasoline-powered light duty trucks and vehicles with a model year of 1998 or later.

Georgia's current SIP-approved I/M regulation also has specific testing requirements. As mentioned above, all light-duty vehicles and trucks with model years of 1996 or newer are federally required to have an OBD system. As a result, Georgia's SIP-approved rule requires OBD testing for “newer” vehicles and Acceleration Simulation Mode (ASM) ¹⁰ or 2-speed idle (TSI) ¹¹ tailpipe testing on “older” vehicles. The SIP-approved Georgia rule defines “older vehicles” as those with a designated model year of 1995 and older and “newer vehicles” as those with a designated model year of 1996 and newer. See Georgia Rules 391-3-20-.01(mm) and (kk), respectively. As discussed further in this section of the notice, the terms “older vehicles” and “newer vehicles” are obsolete because Georgia's SIP-approved I/M program only applies to light duty trucks and vehicles that are 24 model years old and newer.

¹⁰ ASM testing is testing that uses a dynamometer so that the vehicle can be tested under load. The ASM test accelerates the vehicle to 15 miles per hour (mph) with 50% of the vehicle's horsepower, and a second portion of the test accelerates the vehicle to 25 mph with 25% of the vehicle's horsepower. This test is performed while an exhaust gas analyzer measures the vehicle's levels of nitrogen oxide, hydrocarbon, and carbon monoxide during acceleration.

¹¹ The TSI test is an exhaust emission test where the vehicle is run at an idle revolutions per minute (RPM) speed, and then a higher RPM speed. An analyzer measures the tailpipe exhaust emissions of the vehicles at both settings to determine compliance with motor vehicle emission standards.

A. Rule 391-3-20-.01, “Definitions”

Georgia's SIP revisions include the following changes to Rule 391-3-20-.01. All other definitions in this Rule were renumbered accordingly to reflect the changes below.

1. Acceleration Simulation Mode 2525/5015 Exhaust Emission Test

The submittal deletes the term “Acceleration Simulation Mode 2525/5015 exhaust emission test (ASM test)” from Rule 391-3-20-.01 as the test is now obsolete. EPA's I/M program requirements stipulate that state and local agencies are free to design their testing protocol as they choose, provided they meet the appropriate performance standard. See 40 CFR 51.351(d). EPA approved Georgia's I/M Program SIP revision stipulating that the program would cover all gasoline-powered light duty trucks and vehicles 24 model years old and newer in 1997. See 62 FR 42916 (August 11, 1997). As a result, Georgia's I/M program is only required to cover vehicles with a model year of 1998 and later. See Georgia Rule 391-3-20-.03(1). The SIP-approved Georgia rules require ASM or TSI testing on “older” vehicles and OBD testing for “newer” vehicles.¹² See Georgia Rules 391-3-20-.04(2)(b) and .04(2)(a), respectively. Because Georgia's I/M program only covers vehicles with a model year of 1998 or newer currently, the provisions of the SIP-approved rule that require ASM testing for older vehicles are no longer applicable.¹³

¹² Id.

¹³ As mentioned previously, OBD testing receives the same emission reduction credit as other forms of enhanced testing (i.e., ASM or TSI) because OBD is more sensitive to problems that might cause emissions to rise above the standard.

Since the ASM requirement no longer applies to vehicles covered by Georgia's I/M program for the reason stated above, EPA has made the preliminary determination that the removal of this definition from Rule 391-3-20-.01(b) has no impact on emissions and is consistent with CAA requirements.

2. Calibration

The submittal revises the term “Calibration” by removing a reference to the dynamometer, a part of the ASM test. The ASM test uses tailpipe emissions sensing equipment that measures emissions as the vehicle is driven under load at a steady speed on a chassis dynamometer. As stated above, the ASM test is no longer applicable to motor vehicles subject to Georgia's SIP-approved I/M program. Therefore, EPA has made the preliminary determination that this revision to Rule 391-3-20-.01(c) has no impact on emissions and is consistent with CAA requirements.

3. Exhaust Emission Test

The submittal revises the term “Exhaust Emissions Test” by removing a reference to the ASM test. As stated above, the ASM test is no longer applicable to motor vehicles subject to the I/M program. An exhaust emission test, when conducted, will now use the TSI test instead of the ASM test to determine the amount of specified gases in a vehicle's exhaust. Inspectors may use the TSI test on non-OBD equipped vehicles when prompted by the Georgia Analyzer System (GAS).¹⁴ Additionally, inspectors must continue to use the TSI test on grandfathered vehicles. EPA has made the preliminary determination that this revision to Rule 391-3-20-.01(r) has no impact on emissions and is consistent with CAA requirements.

¹⁴ For the few vehicles with model years 1996 or newer that are not equipped with OBD, Georgia does not currently require an emissions test.

4. Malfunction Indicator Light

The submittal revises the term “Malfunction Indicator Light (MIL)” by replacing the term “newer” with “OBD equipped” to describe vehicles with an MIL. A MIL is a light on the dashboard of OBD equipped vehicles that notifies the driver that an emission related fault has been detected and the vehicle should be repaired as soon as possible. The word “newer” previously referred to vehicles with a model year of 1996 or later and is now obsolete because the I/M program only covers those vehicles with a designated model year of 1998 or later. EPA has made the preliminary determination that this revision to Rule 391-3-20-.01(jj) has no impact on emissions and is consistent with CAA requirements.

5. Newer Vehicles

The submittal deletes the term “Newer Vehicles,” which refers to vehicles with a designated model year of 1996 and newer, as it is obsolete. All vehicles covered under Georgia's SIP-approved I/M program are necessarily those with a designated model year later than 1996 as the program only covers vehicles as far back as 24 model years old or newer. See Georgia Rule 391-3-20-.03(1). Currently, Georgia's I/M program covers those vehicles with a model year of 1998 or newer. As a result, the rules no longer need to distinguish between “older” and “newer” vehicles since the I/M program only covers those vehicles with a designated model year of 1998 or later. EPA has made the preliminary determination that the removal of this definition from Rule 391-3-20-.01(kk) has no impact on emissions and is consistent with CAA requirements.

6. Older Vehicles

The submittal deletes the term “Older Vehicles,” which means vehicles with a designated model year of 1995 and older, as it is obsolete. As mentioned above, the only vehicles covered under Georgia's SIP-approved I/M program currently are those with a designated model year of 1998 or later. EPA has made the preliminary determination that the removal of this definition from Rule 391-3-20-.01(mm) has no impact on emissions and is consistent with CAA requirements.

B. Rule 391-3-20-.04, “Emission Inspection Procedures”

The submittal amends Rule 391-3-20-.04, “Emission Inspection Procedures,” by removing obsolete language referring to outdated requirements and inserting language referring to the OBD test. Specifically, the submittal makes changes to distinguish what emission inspection procedures will be used for OBD equipped vehicles versus non-OBD equipped vehicles. It does this first in Rule 391-3-20-.04(2)(a) by replacing the term “newer” with “OBD equipped” in reference to vehicles subject to particular emission inspection procedures. In 391-3-20-.04(3)(b) the term “older” is replaced with “non-OBD equipped” in reference to vehicles subject to a different set of emission inspection procedures. These changes are appropriate delineations between vehicles as the “older” and “newer” distinction is now obsolete for the reasons described above.

The submittal also adds a new provision to the emission inspection procedures for newer non-OBD equipped vehicles.¹⁵ Specifically, for those non-OBD equipped vehicles that are not grandfathered in, inspectors may use the TSI test when prompted by GAS.¹⁶ EPA has made the preliminary determination that the revisions to Rule 391-3-20-.04 have no impact on emissions and are consistent with CAA requirements.

¹⁵ As mentioned previously, Georgia does not currently require an emissions test for the few vehicles with model years 1996 or newer that are not equipped with OBD.

¹⁶ For those vehicles that are grandfathered in, inspectors must continue to use the TSI test in lieu of the ASM test.

C. Rule 391-3-20-.05, “Emission Standards”

The submittal amends Rule 391-3-20-.05, “Emission Standards,” to delete an outdated reference to the ASM test. Specifically, the submittal deletes 391-3-20-.05(2)(b)(2), which describes the standard under which a vehicle would pass an ASM test. As the ASM test is no longer applicable, this provision is no longer necessary. Rule 391-3-20-.05 is renumbered to adjust for the removal of this provision. EPA has made the preliminary determination that this revision to Rule 391-3-20-.05 has no impact on emissions and is consistent with CAA requirements.

D. Rule 391-3-20-.07, “Inspection Equipment System Specification”

The submittal amends Rule 391-3-20-.07, “Inspection Equipment System Specification” by deleting language referring to newer vehicles, older vehicles, and the ASM test as this language is outdated and obsolete. This is consistent with the changes to the definitions portion of the rule which removed those terms. The ASM test is replaced with the TSI test in 391-3-20-.07 (b) and (d) as the ASM test is no longer applicable. The change to paragraph (b) has substantively made it identical to SIP-approved paragraph (c), so paragraph (c) has been removed completely. Rule 391-3-20-.07 is renumbered thereafter to account for this change.

The submittal also deletes language in 391-3-20-.07 that refers to distinctions between “newer” and “older” vehicles. First, in 391-3-20-.07(a), the submittal deletes language that gave station owners the option to apply for a Certificate of Authorization as either a regular inspection station or a newer-vehicle only inspection station. This distinction is now obsolete and the Certificate of Authorization was optional originally. Additionally, the submittal deletes language in 391-3-20-.07(d) referring to “newer and older” vehicles and removes a requirement from the same provision that only applied previously to fleet station inspection stations with respect to “newer” vehicles. The removal of this language has resulted in a requirement that all fleet inspection station owners have an EPD-approved GAS which meets the OBD and TSI requirements of Chapter 391-3-20. EPA has made the preliminary determination that these revisions to Rule 391-3-20-.07 have no impact on emissions and are consistent with CAA requirements.

E. Rule 391-3-20-.09, “Inspection Station Requirements”

The April 30, 2021, submittal amends Rule 391-3-20-.09, “Inspection Station Requirements,” by removing language that makes distinctions between older and newer stations as the delineation between older and newer vehicles is obsolete. The removal of requirements that depended upon this distinction has resulted in two classes of stations, regular inspection stations and fleet inspection stations. The removal of “Newer-Vehicle Only Inspection Stations” will not result in any emissions impact as all vehicles that were required to be covered by the I/M program will still be subject to inspections under the new classes of stations. Rule 391-3-20-.09 is renumbered to account for the removal of this section.

In addition to the changes described above, the submittal removes references and requirements related to the ASM test. One particular requirement that has been removed is a requirement for inspection station owners to provide proof of a bond or garage owner's liability insurance for any damage to a vehicle during inspection. This requirement was primarily directed towards damage that would be caused using dynamometers during ASM testing. As TSI testing, which is performed at idle instead of on a dynamometer, will be used instead of ASM testing, the requirement is no longer necessary because the risks that gave rise to it no longer exist. No emissions impact will result from these changes.

EPA has made the preliminary determination that these revisions to Rule 391-3-20-.09 have no impact on emissions and are consistent with CAA requirements.

F. Rule 391-3-20-.11, “Inspector Qualifications and Certification”

The April 30, 2021, submittal amends Rule 391-3-20-.11, “Inspector Qualifications and Certification,” to remove references to “newer” vehicles, specifically in 391-3-20-.11(4) and (7). As described above, the distinction between “newer” and “older” vehicles is obsolete. The submittal specifically removes language that specifies requirements for inspectors who hold certificates that authorize them to only work on “newer” vehicles. As “newer” vehicle only certificates will no longer exist, the result of this removal will mean that inspectors will receive a certificate that authorizes them to inspect all vehicles.

EPA has made the preliminary determination that this revision to Rule 391-3-20-.11 has no impact on emissions and is consistent with CAA requirements.

V. Incorporation by Reference

In this document, EPA is proposing to include in a final EPA rule regulatory text that includes incorporation by reference. In accordance with the requirements of 40 CFR 51.5, and as explained in Sections I through IV of this preamble, EPA is proposing to incorporate by reference Georgia Rules 391-3-20-.01—Definitions; 391-3-20-.04—Emission Inspection Procedures; 391-3-20-.05—Emission Standards; 391-3-20-.07—Inspection Equipment System Specifications; 391-3-20-.09—Inspection Station Requirements; and 391-3-20-.11—Inspector Qualifications and Certification, all of which have an effective date of April 13, 2021, into the Georgia SIP. EPA has made, and will continue to make, these materials generally available through www.regulations.gov and at the EPA Region 4 office (please contact the person identified in the “For Further Information Contact” section of this preamble for more information).

VI. Proposed Action

EPA is proposing to approve the aforementioned changes to the Georgia SIP. Specifically, EPA is proposing to approve the changes to Georgia Rules 391-3-20-.01—Definitions; 391-3-20-.04—Emission Inspection Procedures; 391-3-20-.05—Emission Standards; 391-3-20-.07—Inspection Equipment System Specifications; 391-3-20-.09—Inspection Station Requirements; and 391-3-20-.11—Inspector Qualifications and Certification into the Georgia SIP. EPA has made the preliminary determination that these changes have no impact on emissions and are consistent with CAA requirements.

VII. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Carbon monoxide, Incorporation by reference, Nitrogen dioxide, Ozone, Particulate matter, Reporting and recordkeeping requirements, Sulfur oxides, Volatile organic compounds.

Authority: 42 U.S.C. 7401 et seq.

Dated: June 30, 2022.
Daniel Blackman,
Regional Administrator, Region 4.

[FR Doc. 2022-14537 Filed 7-8-22; 8:45 am]

BILLING CODE 6560-50-P